DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 12, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Federal Plant Pest and Noxious Weed Regulations.

OMB Control Number: 0579-0054.

Summary of Collection: In accordance with section 412 of the Plant Protection Act (Title IV, Pub L. 106-224, 114 Stat. 438, 7 U.S.C. 7712), the Secretary of Agriculture is authorized to prohibit or restrict the importation, entry, exportation, or interstate movement of plants, plant products, biological control organisms, noxious weeds, soil, regulated garbage, or means of conveyance, if the Secretary determines that the prohibition or restriction is necessary to prevent the dissemination of plant pests or disease within the United States. The associated regulations that were issued by the Animal and Plant Health Inspection Service (APHIS) are located in 7 CFR parts 330 and 360. The introduction and establishment of new plant pests or noxious weeds in the United States could result in severe physical and economic losses to American agriculture. To prevent this from happening, APHIS will use information collection activities in these regulations.

Need and Use of the Information: APHIS will use information collection activities in these regulations to evaluate and mitigate the risks associated with the import or interstate movement of plant pests, noxious weeds, soil, prohibited articles, and regulated garbage. These activities include applications for permits and compliance agreements, amendments and appeals, consultations, site assessments, inspections, certifications, labeling of containers, petitions and recordkeeping.

Description of Respondents: State, Local or Tribal Government; Business or Other For-Profit; Individuals or Households.

Number of Respondents: 4,764.

Frequency of Responses: Reporting; Recordkeeping; Third-Party Disclosure.

Total Burden Hours: 21,635.

Ruth Brown,
Departmental Information Collection Clearance Officer.

[FR Doc. 2022-19543 Filed 9-9-22; 8:45 am]

BILLING CODE 3410-34-P